DEPARTMENT OF STATE

[Public Notice: 11993]

Office of the Chief of Protocol; Gifts to Federal Employees From Foreign Government Sources Reported to Employing Agencies in Calendar Year 2021

All information reported to the Office of the Chief of Protocol, including gift appraisal and donor information, is the responsibility of the employing agency, in accordance with applicable law and GSA regulations.

The Office of the Chief of Protocol, Department of State, submits the following comprehensive listing of the statements which, as required by law, federal employees filed with their employing agencies during calendar year 2021 concerning gifts received from foreign government sources. The compilation includes reports of both tangible gifts and gifts of travel or travel expenses of more than minimal value, as defined in 5 U.S.C. 7432 and GSA regulations. For calendar years 2020-2022 (January 1, 2020 through December 31, 2022), minimal value is $415.00.

Pursuant to Title 22 of the Code of Federal Regulations Section 3.4, the report includes all gifts given on a single occasion when the aggregate value of those gifts exceeds minimal value. Also included are gifts received in previous years including two from 2001, one from 2005, one from 2011, one from 2016, two from 2017, four from 2019, thirteen from 2020, and six with unknown dates. These latter gifts are being reported in this year's report for calendar year 2021 because the Office of the Chief of Protocol, Department of State, did not receive the relevant information at the time of reporting to include them in earlier reports. Agencies not listed in this report either did not receive relevant gifts during the calendar year, did not transmit a listing to the Secretary of State of all statements filed during the preceding year by the employees of that agency pursuant to 5 U.S.C. 7432(f)(1), or did not respond to the State Department's Office of the Chief of Protocol's request for data. The U.S. Senate maintains an internal minimal value of $100; therefore, all gifts over the $100 limit are furnished in the U.S. Senate report.

Publication of this listing in the Federal Register is required by Section 7342(f) of Title 5, United States Code, as added by Section 515(a)(1) of the Foreign Relations Authorization Act, Fiscal Year 1978 (Pub. L. 95-105, August 17, 1977, 91 Stat. 865).

Zachary A. Parker,
Director, Office of Directives Management, U.S. Department of State.

Agency: The White House—Executive Office of the President
[Report of Tangible Gifts Furnished by the White House—Executive Office of the President]
Name and title of person accepting the gift on behalf of the U.S. Government | Gift, date of acceptance on behalf of the U.S. Government, estimated value, and current disposition or location | Identity of foreign donor and government | Circumstances justifying acceptance
The Honorable Joseph R. Biden Jr., President of the United States | Crystal Bowl with Custom Inscription. Rec'd—3/17/2021. Est. Value—$540.00. Disposition—Transferred to NARA. | His Excellency Michael Martin, Prime Minister of Ireland | Non-acceptance would cause embarrassment to donor and U.S. Government.
The Honorable Joseph R. Biden Jr., President of the United States | Gold Jewelry Box with Red Lid Featuring Man on Chariot and Silk Presentation Box with Walking Elephants Among Flowers. Rec'd—3/23/2021. Est. Value—$485.00. Disposition—Transferred to NARA. | His Excellency Manasvi Srisodapol, Ambassador of the Kingdom of Thailand to the United States | Non-acceptance would cause embarrassment to donor and U.S. Government.
The Honorable Joseph R. Biden Jr., President of the United States | Mother-of-Pearl Plaque, White Linen Napkins with Hand-embroidered Floral Bouquet, and Photo Album of Dr. Biden's Visit to Jinkwansa Temple in Seoul. Rec'd—5/25/2021. Est. Value—$2,282.00. Disposition—Transferred to NARA. | His Excellency Moon Jae-in, President of the Republic of Korea | Non-acceptance would cause embarrassment to donor and U.S. Government.
The Honorable Joseph R. Biden Jr., President of the United States | Dupont Fountain Pen. Rec'd—6/11/2021. Est. Value—$433.00. Disposition—Transferred to NARA. | His Excellency Emmanuel Macron, President of the French Republic | Non-acceptance would cause embarrassment to donor and U.S. Government.
The Honorable Joseph R. Biden Jr., President of the United States | R.M. Williams of Australia Leather Boots. Rec'd—6/11/2021. Est. Value—$500.00. Disposition—Transferred to NARA. | The Honorable Scott Morrison, Prime Minister of Australia | Non-acceptance would cause embarrassment to donor and U.S. Government.
The Honorable Joseph R. Biden Jr., President of the United States | Photograph of Queen Elizabeth in Silver Frame. Rec'd—6/11/2021. Est. Value—$2,200.00. Disposition—On Official Display. | Her Majesty The Queen of the United Kingdom of Great Britain and Northern Ireland | Non-acceptance would cause embarrassment to donor and U.S. Government.
The Honorable Joseph R. Biden Jr., President of the United States | Brass and Lapis Lazuli Jewelry Box. Rec'd—6/11/2021. Est. Value—$1,150.00. Disposition—Transferred to NARA. | His Excellency Abdullah Abdullah, Chairman of the High Council for National Reconciliation of the Islamic Republic of Afghanistan | Non-acceptance would cause embarrassment to donor and U.S. Government.
The Honorable Joseph R. Biden Jr., President of the United States | Kholuy Lacquer Miniature Workshop Desk Writing Set and Pen. Rec'd—6/16/2021. Est. Value—$12,000.00. Disposition—Transferred to NARA. | His Excellency Vladimir Putin, President of the Russian Federation | Non-acceptance would cause embarrassment to donor and U.S. Government.
The Honorable Joseph R. Biden Jr., President of the United States | Tissot Touch Connect Solar Wristwatch. Rec'd—6/29/2021. Est. Value—$1,050.00. Disposition—Transferred to NARA. | His Excellency Guy Parmelin, President of the Swiss Confederation | Non-acceptance would cause embarrassment to donor and U.S. Government.
The Honorable Joseph R. Biden Jr., President of the United States | Silk Carpet. Rec'd—6/29/2021. Est. Value—$9,600.00. Disposition—Transferred to NARA. | His Excellency Mohammad Ashraf Ghani, President of the Islamic Republic of Afghanistan | Non-acceptance would cause embarrassment to donor and U.S. Government.
The Honorable Joseph R. Biden Jr., President of the United States | Two Dog Bowls, Two Atlantic Wool Blankets, Ceramic Cup and Mug Set, Devon Pens Fountain Pen Accompanied by a Bottle of Oxford Blue Ink, Photographer of Frederick Douglass Mural in Edinburgh, G7UK2021 Printed Face Mask. Rec'd—6/29/2021. Est. Value—$536.20. Disposition—Transferred to NARA. | The Right Honorable Boris Johnson, MP, Prime Minister of the United Kingdom of Great Britain and Northern Ireland | Non-acceptance would cause embarrassment to donor and U.S. Government.
The Honorable Joseph R. Biden Jr., President of the United States | Mother-of-Pearl Jewelry Box. Rec'd—7/19/2021. Est. Value—$2,400.00. Disposition—Transferred to NARA. | His Majesty King Abdullah II ibn Al Hussein, King of the Hashemite Kingdom of Jordan | Non-acceptance would cause embarrassment to donor and U.S. Government.
The Honorable Joseph R. Biden Jr., President of the United States | Pair of Goblets in Presentation Box, Two Wrapping Cloths. Rec'd—7/23/2021. Est. Value—$684.00. Disposition—Transferred to NARA. | Tokyo Metropolitan Police | Non-acceptance would cause embarrassment to donor and U.S. Government.
The Honorable Joseph R. Biden Jr., President of the United States | U.S. Flag, 56″ x 93″. Rec'd—9/3/2021. Est. Value—$700.00. Location—Transferred to NARA. | His Excellency Volodymyr Zelensky, President of Ukraine | Non-acceptance would cause embarrassment to donor and U.S. Government.
The Honorable Joseph R. Biden Jr., President of the United States | Meissen Tea Set and a Pen Drawing of the President's Childhood Home in Scranton, Pennsylvania. Rec'd—9/30/2021. Est. Value—$780.00. Disposition—Tea Set Transferred to NARA. Drawing on Official Display. | Her Excellency Dr. Angela Merkel, Chancellor of the Federal Republic of Germany | Non-acceptance would cause embarrassment to donor and U.S. Government.
The Honorable Joseph R. Biden Jr., President of the United States | Kadam Wood Statue of Buddha. Rec'd—10/6/2021. Est. Value—$1,400.00. Disposition—Transferred to NARA. | His Excellency Narendra Modi, Prime Minister of the Republic of India | Non-acceptance would cause embarrassment to donor and U.S. Government.
The Honorable Joseph R. Biden Jr., President of the United States | Sand Painting Artwork of President Biden in Presentation Box. Rec'd—10/12/2021. Est. Value—$2,700.00. Disposition—Transferred to NARA. | His Excellency Nguyen Xuan Phuc, President of the Socialist Republic of Vietnam | Non-acceptance would cause embarrassment to donor and U.S. Government.
The Honorable Joseph R. Biden Jr., President of the United States | Hand-painted Icon in Oak Frame. Rec'd—10/25/2021. Est. Value $2,400.00. Disposition—Transferred to NARA. | His All-Holiness Ecumenical Patriarch Bartholomew | Non-acceptance would cause embarrassment to donor and U.S. Government.
The Honorable Joseph R. Biden Jr., President of the United States | Hardcover Book: The Bidens of India. Rec'd—10/28/2021. Est. Value $455.00. Disposition—Transferred to NARA. | His Excellency Narendra Modi, Prime Minister of the Republic of India | Non-acceptance would cause embarrassment to donor and U.S. Government.
The Honorable Joseph R. Biden Jr., President of the United States | Bernini Fountain Pen by Stipula of Florence. Rec'd—10/29/2021. Est. Value—$1,306.00. Disposition—Transferred to NARA. | His Eminence Cardinal Pietro Parolin, Secretary of State of the Apostolic Nunciature of the Holy See | Non-acceptance would cause embarrassment to donor and U.S. Government.
The Honorable Joseph R. Biden Jr., President of the United States | Locman of Italy Wristwatch in Presentation Box and Salvatore Ferragamo G20 Black Leather Briefcase. Rec'd—12/3/2021. Est. Value—$2,052.00. Disposition—Transferred to NARA. | His Excellency Mario Draghi, President of the Council of Ministers of the Italian Republic | Non-acceptance would cause embarrassment to donor and U.S. Government.
The Honorable Joseph R. Biden Jr., President of the United States, and Dr. Jill Biden | Bronze Sculpture of Three Rectangles Accompanied by Card Stating “Resolve. Dignity. Tolerance” as Three Unshakeable Pillars and a Holiday Greeting Card of the Royal Family. Rec'd—12/2021. Est. Value—$490.00. Disposition—Transferred to NARA. | His Majesty King Abdullah II ibn Al Hussein, King of the Hashemite Kingdom of Jordan | Non-acceptance would cause embarrassment to donor and U.S. Government.
Dr. Jill Biden, First Lady of the United States | Painting of Flowers in Vase on Paper. Rec'd—5/25/2021. Est. Value—$1,100.00. Disposition—Transferred to NARA. | Mrs. Kim Jung-Sook, First Lady of the Republic of South Korea | Non-acceptance would cause embarrassment to donor and U.S. Government.
Dr. Jill Biden, First Lady of the United States | Silver Brooch with Pearls. Rec'd—6/11/2021. Est. Value—$1,000.00. Disposition—On Official Display. | Mrs. Suga Mariko, Spouse of the Prime Minister of Japan | Non-acceptance would cause embarrassment to donor and U.S. Government.
Dr. Jill Biden, First Lady of the United States | Crystal Fern Bouquet Vase, Book: Hold Still, Book: The Land Gardeners Cut Flowers, and Hand-made Basket by Cuckmere Trug Company. Rec'd—6/11/2021. Est. Value—$566.74. Disposition—Vase on Official Display. All other items transferred to NARA. | Her Royal Highness The Duchess of Cambridge | Non-acceptance would cause embarrassment to donor and U.S. Government.
Dr. Jill Biden, First Lady of the United States | Silk Carpet. Rec'd—6/29/2021. Est. Value—$19,200.00. Disposition—Transferred to NARA. | Mrs. Rula Ghani, First Lady of the Islamic Republic of Afghanistan | Non-acceptance would cause embarrassment to donor and U.S. Government.
Dr. Jill Biden, First Lady of the United States | Mother-of-Pearl Jewelry Box. Rec'd—7/19/2021. Est. Value—$2,400.00. Disposition—On Official Display. | Her Majesty Queen Rania Al Abdullah, Queen of the Hashemite Kingdom of Jordan | Non-acceptance would cause embarrassment to donor and U.S. Government.
Dr. Jill Biden, First Lady of the United States | Chapan Silk Embroidered Jacket. Rec'd—7/25/2021, Est. Value—$440.00. Disposition—Transferred to NARA. | Mrs. Mirziyoyeva Ziroat Makhmudovna, First Lady of the Republic of Uzbekistan | Non-acceptance would cause embarrassment to donor and U.S. Government.
Dr. Jill Biden, First Lady of the United States | Pearl Earrings. Rec'd—9/23/2021. Est. Value—$525.00. Disposition—Transferred to NARA. | The Honorable Scott Morrison, Prime Minister of Australia | Non-acceptance would cause embarrassment to donor and U.S. Government.
Dr. Jill Biden, First Lady of the United States | Salvatore Ferragamo Black Leather Purse and Clutch. Rec'd—10/29/2021. Est. Value—$2,410.00. Disposition—Transferred to NARA. | His Excellency Sergio Mattarella, President of the Italian Republic | Non-acceptance would cause embarrassment to donor and U.S. Government.
Mr. Robert O'Brien, National Security Advisor | Jewelry Box Depicting Thai Royal Canoe with Dragon Head Prow and Silver Bracelet. Rec'd—11/1/2019. Est. Value—$1,125.00. Disposition—Pending transfer to GSA. | Government of the Kingdom of Thailand | Non-acceptance would cause embarrassment to donor and U.S. Government.
Mr. Ronald Klain, Assistant to the President & Chief of Staff | Herend Tea Set in Presentation Box. Rec'd—9/9/2021. Est. Value—$800.00. Disposition—Pending Transfer to GSA. | His Excellency Peter Szijjarto, Minister of Foreign Affairs and Trade of Hungary | Non-acceptance would cause embarrassment to donor and U.S. Government.
Dr. Kurt Campbell, Assistant to the President & Coordinator of the Indo-Pacific | 24k Gold Medallion with a Mongolian Inscription. Rec'd—9/17/2021. Est. Value—$5,700.00. Disposition—Pending Transfer to GSA. | The Honorable Gombojavyn Zandanshatar, Speaker of Parliament of Mongolia | Non-acceptance would cause embarrassment to donor and U.S. Government.
Mr. Jonathan Finer, Assistant to the President & Principal Deputy National Security Advisor | Leather Ground Cover, 48″ x 88″ Rec'd—11/2/2021. Est. Value—$780.00. Disposition—Pending Transfer to GSA. | Ministry of Defense of the Islamic Republic of Mauritania | Non-acceptance would cause embarrassment to donor and U.S. Government.
Mr. Eric Rudenshiold, Director for Central Asia, National Security Council | Silk Red, Turquoise, and Black Carpet. Rec'd—12/232021. Est. Value—$2,100.00. Disposition—Pending Transfer to GSA. | His Excellency Javlon Vakhabov, Ambassador of Uzbekistan to the United States and Canada | Non-acceptance would cause embarrassment to donor and U.S. Government.

Agency: The Executive Office of the Vice President
[Report of Tangible Gifts Furnished by the Executive Office of the Vice President]
Name and title of person accepting the gift on behalf of the U.S. Government | Gift, date of acceptance on behalf of the U.S. Government, estimated value, and current disposition or location | Identity of foreign donor and government | Circumstances justifying acceptance
The Honorable Kamala D. Harris, Vice President of the United States | Celadon Tea Kettle with Lotus Motif. Rec'd—5/21/2021. Est. Value—$990.00. Disposition—Transferred to NARA | His Excellency Moon Jae-in, President of the Republic of Korea | Non-acceptance would cause embarrassment to donor and U.S. Government.
The Honorable Kamala D. Harris, Vice President of the United States | Jade Beaded Earrings and Beaded Necklace Set, Black Suede Purse with Textile Flap, and Two Bottles of Guatemalan Rum in Leather Case. Rec'd—6/8/2021. Est. Value—$739.00. Disposition—Jewelry pending transfer to NARA. Purse transferred to NARA. Perishable items handled pursuant to United States Secret Service policy. | His Excellency Alejandro Giammattei, President of the Republic of Guatemala | Non-acceptance would cause embarrassment to donor and U.S. Government.
The Honorable Kamala D. Harris, Vice President of the United States | Large Framed Painting of a Lotus and Silk Lotus Scarf. Rec'd—8/25/2021. Est. Value—$720.00. Disposition—Pending transfer to NARA. | His Excellency Nguyen Xuân Phúc, President of the Socialist Republic of Vietnam | Non-acceptance would cause embarrassment to donor and U.S. Government.
The Honorable Kamala D. Harris, Vice President of the United States | Large Ceramic Vase with Hand-Painted Cityscape. Rec'd—8/25/2021. Est. Value—$2,100.00. Disposition—Transferred to NARA. | His Excellency Pham Minh Chính, Prime Minister of the Socialist Republic of Vietnam | Non-acceptance would cause embarrassment to donor and U.S. Government.
The Honorable Kamala D. Harris, Vice President of the United States | Double Strand Pearl Necklace. Rec'd—8/25/2021. Est. Value—$2,100.00. Disposition —Transferred to NARA. | Her Excellency Võ Thi Ánh Xuân Vice President of the Socialist Republic of Vietnam | Non-acceptance would cause embarrassment to donor and U.S. Government.
The Honorable Kamala D. Harris, Vice President of the United States | Adinkra in Frame and Kente Cloth. Rec'd —9/23/2021. Est. Value—$1,420.00. Disposition—Pending transfer to NARA. | His Excellency Nana Addo Dankwa Afuko-Addo, President of the Republic of Ghana | Non-acceptance would cause embarrassment to donor and U.S. Government.
The Honorable Kamala D. Harris, Vice President of the United States | Gulabi Meenakari Chess Set, Historic Documents in Wooden Frames, Hamper of Coffee. Rec'd—9/24/2021. Est. Value —$1,382.00. Disposition—Chess set and documents on official display. Perishable items handled pursuant to United States Secret Service policy. | His Excellency Narendra Modi, Prime Minister of the Republic of India | Non-acceptance would cause embarrassment to donor and U.S. Government.
The Honorable Kamala D. Harris, Vice President of the United States | Hermes Scarf, book Marie Curie signed by Susan Quinn and President Macron, Book Autobiographical Notes by Marie Curie. Rec'd—11/9/2021. Est. Value—$786.95. Disposition—Pending transfer to NARA | His Excellency Emmanuel Macron, President of the French Republic and Mrs. Brigitte Macron | Non-acceptance would cause embarrassment to donor and U.S. Government.
The Honorable Kamala D. Harris, Vice President of the United States | Painting. Rec'd—12/21/2021. Est. Value—$780.00. Disposition—Pending transfer to NARA. | His Excellency Khazar Ibrahim, Ambassador of the Republic of Azerbaijan | Non-acceptance would cause embarrassment to donor and U.S. Government.
Mr. Douglas Emhoff | Small Lacquer Dish with Flower, Set of Two Red and Blue Glass Tumblers, Two Tokyo 2020 Wrapping Cloths “Furushiki”, and Lacquer Platter. Rec'd—8/25/2021. Est. Value—$1,042.00. Disposition—Pending transfer to NARA. | The Olympics and Paralympics Office, Ministry of Foreign Affairs of Japan | Non-acceptance would cause embarrassment to donor and U.S. Government.
Mr. Douglas Emhoff | Bottle of Sparkling Sake and Sake Glasses. Rec'd—8/25/2021. Est. Value—$578.00. Disposition—Glasses transferred to NARA. Perishable items handled pursuant to United States Secret Service policy. | His Excellency Motegi Toshimitsu, Minister of Foreign Affairs of Japan | Non-acceptance would cause embarrassment to donor and U.S. Government.
Mr. Douglas Emhoff | Kashmiri Silk Carpet, Hamper of Coffee, Rec'd—9/24/2021. Est. Value—$5,542.00. Disposition—Pending transfer to NARA. Perishable items handled pursuant to United States Secret Service policy. | His Excellency Narendra Modi, Prime Minister of the Republic of India | Non-acceptance would cause embarrassment to donor and U.S. Government.

Agency: Department of State
[Report of Tangible Gifts Furnished by the Department of State]
Name and title of person accepting the gift on behalf of the U.S. Government | Gift, date of acceptance on behalf of the U.S. Government, estimated value, and current disposition or location | Identity of foreign donor and government | Circumstances justifying acceptance
The Honorable Antony J. Blinken, Secretary of State | Porcelain Vase. Rec'd—3/19/2021 Est. Value—$2,000.00. Disposition—Transferred to GSA. | His Excellency Yang Jiechi, Director of the Office of the Central Commission for Foreign Affairs of the Chinese Communist Party | Non-acceptance would cause embarrassment to donor and U.S. Government.
The Honorable Antony J. Blinken, Secretary of State | Four Copies of Book: Brussels: Not Your Ordinary City, Box of Laurent Chocolates, and Dolphene Scarf. Rec'd—3/23/2021. Est. Value—$738.00. Disposition—Transferred to GSA. | His Excellency Philippe Close, Mayor of Brussels, Belgium | Non-acceptance would cause embarrassment to donor and U.S. Government.
The Honorable Antony J. Blinken, Secretary of State | Aurora Fountain Pen. Rec'd—4/12/2021. Est. Value—$671.00. Disposition—Transferred to GSA. | His Excellency Luigi Di Maio, Minister of Foreign Affairs of the Italian Republic | Non-acceptance would cause embarrassment to donor and U.S. Government.
The Honorable Antony J. Blinken, Secretary of State | Herend Porcelain Tea Set. Rec'd—4/14/2021. Est. Value—$650.00. Disposition—On official display. | His Excellency Péter Szijjártó, Minister of Foreign Affairs of Hungary | Non-acceptance would cause embarrassment to donor and U.S. Government.
The Honorable Antony J. Blinken, Secretary of State | Salento Primitivo Wine, Human Fraternity Book, Seven Apostolic Exhortations, Silver Coin, and Metal Statue on Wood Base with “Riempiamo Le Mani Di Altre Mani.” Rec'd—6/28/2021. Est. Value—$1,457.00. Disposition—Purchased from GSA. | His Holiness Pope Francis | Non-acceptance would cause embarrassment to donor and U.S. Government.
The Honorable Antony J. Blinken, Secretary of State | Miniature Tile Painting Depicting Hunters on Horseback in Wood Frame. Rec'd—7/15/2021. Est. Value—$1,900.00. Disposition—Pending transfer to GSA. | His Excellency Abdulaziz Kamilov, Minister of Foreign Affairs of the Republic of Uzbekistan | Non-acceptance would cause embarrassment to donor and U.S. Government.
The Honorable Antony J. Blinken, Secretary of State | Leather-Bound Copy of the Constitution of Kuwait, Gavel in a Red Box, Glass and Gold-Plated Model of Kuwait National Assembly Building. Rec'd—7/29/2021.Est. Value—$1,025.00. Disposition—Pending transfer to GSA. | His Excellency Marzouq Ali Alghanim, Speaker of the National Assembly of the State of Kuwait | Non-acceptance would cause embarrassment to donor and U.S. Government.
The Honorable Antony J. Blinken, Secretary of State | Leather-Bound Photo Album with Photos from Visit and Mini iPad. Rec'd—8/5/2021. Est. Value—$950.00. Disposition—Pending transfer to GSA. | His Excellency Marzouq Ali Alghanim, Speaker of the National Assembly of the State of Kuwait | Non-acceptance would cause embarrassment to donor and U.S. Government.
The Honorable Antony J. Blinken, Secretary of State | Oud with Secretary Blinken's Name, Two T-Shirts, One Sweatshirt, and One Baseball Hat. Rec'd—9/7/2021. Est. Value—$1,239.00. Disposition—Pending transfer to GSA. | His Excellency Sheikh Mohammed bin Abdulrahman Al-Thani, Deputy Prime Minister and Minister of Foreign Affairs of the State of Qatar | Non-acceptance would cause embarrassment to donor and U.S. Government.
The Honorable Antony J. Blinken, Secretary of State | Silver Model Ship in Glass Case. Rec'd—10/14/2021. Est. Value—$440.00. Disposition—Pending transfer to GSA. | His Excellency Nikos Dendias, Minister of Foreign Affairs of the Hellenic Republic | Non-acceptance would cause embarrassment to donor and U.S. Government.
The Honorable Antony J. Blinken, Secretary of State | Retablo-Wooden Doors with Painting. Rec'd—10/19/2021. Est. Value—$1,270.00. Disposition—Pending transfer to GSA | His Excellency Mauricio Montalvo, Minister of Foreign Affairs of the Republic of Ecuador | Non-acceptance would cause embarrassment to donor and U.S. Government.
The Honorable Antony J. Blinken, Secretary of State | Colombian Hammock, Leoz Guitar, Coffee in Custom Engraved Wooden Case. Rec'd—10/20/2021. Est. Value—$529.00. Disposition—Pending transfer to GSA | His Excellency Iván Duque Márquez, President of the Republic of Colombia | Non-acceptance would cause embarrassment to donor and U.S. Government.
The Honorable Antony J. Blinken, Secretary of State | Large Glass Vase, Box of Dates, and Set of Olive Oil, Honey, and Rose Water. Rec'd—10/21/2021. Est. Value—$630.00. Disposition—Pending transfer to GSA. | His Highness Prince Faisal bin Farhan Al Saud, Minister of Foreign Affairs of the Kingdom of Saudi Arabia | Non-acceptance would cause embarrassment to donor and U.S. Government.
The Honorable Antony J. Blinken, Secretary of State | Leather Ornamental Box and Woven Tapestry. Rec'd—11/20/2021. Est. Value—$2,770.00. Disposition—Pending transfer to GSA. | His Excellency Macky Sall, President of the Republic of Senegal | Non-acceptance would cause embarrassment to donor and U.S. Government.
The Honorable Antony J. Blinken, Secretary of State | Traditional Jade Necklace. Rec'd—11/23/2021. Est. Value—$780.00. Disposition—Pending transfer to GSA. | The Honorable Nanaia Manuta, Minister of Foreign Affairs of New Zealand | Non-acceptance would cause embarrassment to donor and U.S. Government.
The Honorable Antony J. Blinken, Secretary of State | Ararat Independence 30 Armenian Brandy and Armenian Churches and Monasteries Commemorative Coins. Rec'd—12/2/2021. Est. Value—$990.00. Disposition—Pending transfer to GSA. | His Excellency Ararat Mirzoyan, Minister of Foreign Affairs of the Republic of Armenia | Non-acceptance would cause embarrassment to donor and U.S. Government.
Mr. John Ordway, Chargé d'Affaires ad interim, U.S. Embassy Astana | Blancpain Men's Watch.¹ Rec'd—9/20/2011. Est. Value—$9,995.00. Disposition—Pending transfer to GSA. | His Excellency Nursultan Nazarbayev, President of the Republic of Kazakhstan | Non-acceptance would cause embarrassment to donor and U.S. Government.
Mr. Robert Waller, Consul General, U.S. Consulate Dubai | Aigner Watch and Roamer Watch. Rec'd—2015. Est. Value—$570.00. Disposition—Pending transfer to GSA. | Mr. Mohammed Ahli, Dubai Civil Aviation Authority, United Arab Emirates | Non-acceptance would cause embarrassment to donor and U.S. Government.
The Honorable Stuart Jones, Ambassador, U.S. Embassy Baghdad | Longines Legend Diver Watch. Rec'd—2016. Est. Value—$6,260.00. Disposition—Transferred to GSA. | His Excellency Masrour Barzani, Prime Minister of the Kurdistan Regional Government | Non-acceptance would cause embarrassment to donor and U.S. Government.
Asja and Maro Querin, Daughters of The Honorable Barbara Leaf, U.S. Ambassador to the United Arab Emirates | Two Tag Heuer Aquaracer Watches. Rec'd—6/12/2017. Est. Value—$4,750.00. Disposition—Transferred to GSA. | His Highness Sheikh Nahyan bin Mubarak al Nahyan, Minister of Culture, Youth, and Society Development of the United Arab Emirates | Non-acceptance would cause embarrassment to donor and U.S. Government.
Ms. Stephanie Williams, Deputy Chief of Mission, U.S. Embassy Baghdad | John F. Kennedy Special Edition Mont Blanc Pen. Rec'd—7/25/2017.² Est. Value—$940.00. Disposition—Transferred to GSA. | Mr. Jaber al-Jaber, Senior Advisor to the Speaker of Parliament of the Republic of Iraq | Non-acceptance would cause embarrassment to donor and U.S. Government.
Mr. Joshua Harris, Deputy Chief of Mission, Libya External Office | Gucci Travel Bag, Apple iPad Pro, Apple Magic Keyboard, and Apple Pencil.³ Rec'd—8/5/2019. Est. Value—$3,559.00. Disposition—Transferred to GSA. | Mr. Belgassem Haftar, Advisor to Libyan National Army Commander | Non-acceptance would cause embarrassment to donor and U.S. Government.
Special Agent Komaal Collie, Diplomatic Security | Mont Blanc Ballpoint Pen. Rec'd—2/19/2021. Est. Value—$485.00. Disposition—Transferred to GSA. | His Excellency Joseph Jourieh, Chief of Protocol of the State of Qatar | Non-acceptance would cause embarrassment to donor and U.S. Government.
The Honorable Leslie Tsou, U.S. Ambassador to the Sultanate of Oman | Decorative Wooden Box with Six Silver Napkin Rings. Rec'd—2/21/2021. Est. Value—$1,038.00. Disposition—Pending Transfer to GSA. | Vice Admiral Abdullah bin Khamis bin Abdullah Al Raisi, Chief of Staff of the Sultan's Armed Forces of the Sultanate of Oman | Non-acceptance would cause embarrassment to donor and U.S. Government.
Ms. Asel Roberts, Acting Chief of Protocol | Book: Culture of Uzbek Cookeries, and Two Pieces of Margilan Silk Fabric. Rec'd—5/18/2021. Est. Value—$510.00. Disposition—Transferred to GSA. | His Excellency Javlon Vakhabov, Ambassador of Uzbekistan to the United States and Canada | Non-acceptance would cause embarrassment to donor and U.S. Government.
Mr. Marcus Switzer, Deputy Chief of Protocol | Book: Culture of Uzbek Cookeries, and Two Pieces of Margilan Silk Fabric. Rec'd—5/18/2021. Est. Value—$510.00. Disposition—Transferred to GSA. | His Excellency Javlon Vakhabov, Ambassador of Uzbekistan to the United States and Canada | Non-acceptance would cause embarrassment to donor and U.S. Government.
Ms. Sharon Weber, Deputy Chief of Protocol | Book: Culture of Uzbek Cookeries, and Two Pieces of Margilan Silk Fabric. Rec'd—5/18/2021. Est. Value—$510.00. Disposition—Transferred to GSA. | His Excellency Javlon Vakhabov, Ambassador of Uzbekistan to the United States and Canada | Non-acceptance would cause embarrassment to donor and U.S. Government.
Ms. Jennifer Wham, Protocol Officer | Book: Culture of Uzbek Cookeries, and Two Pieces of Margilan Silk Fabric. Rec'd—5/18/2021. Est. Value—$510.00. Disposition—Transferred to GSA. | His Excellency Javlon Vakhabov, Ambassador of Uzbekistan to the United States and Canada | Non-acceptance would cause embarrassment to donor and U.S. Government.
Mr. Tyler Savoy, Protocol Officer | Book: Culture of Uzbek Cookeries, and Two Pieces of Margilan Silk Fabric. Rec'd—5/18/2021. Est. Value—$510.00. Disposition—Transferred to GSA. | His Excellency Javlon Vakhabov, Ambassador of Uzbekistan to the United States and Canada | Non-acceptance would cause embarrassment to donor and U.S. Government.
The Honorable Wendy Sherman, Deputy Secretary of State | Engraved Serving Platter, Books: Speaking the Truth in Love, The Ecumenical Patriarchate Today, and The Patriarch of Solidarity, and Six Novelty Pens. Rec'd—5/29/2021. Est. Value—$760.00. Disposition—Pending transfer to GSA. | His All-Holiness Ecumenical Patriarch Bartholomew | Non-acceptance would cause embarrassment to donor and U.S. Government.
Mr. Andrew Simpson, Regional Security Officer, U.S. Embassy Doha | Movado Men's Heritage Watch. Rec'd—6/9/2021. Est. Value—$650.00. Disposition—Pending transfer to GSA. | Ministry of Interior of the State of Qatar | Non-acceptance would cause embarrassment to donor and U.S. Government.
The Honorable Wendy Sherman, Deputy Secretary of State | Silver-tone Metal Dish and Gilt Mask of Tutankhamun in Display Case. Rec'd—6/23/2021. Est. Value—$1,245.00. Disposition—Pending transfer to GSA. | His Excellency Abbas Kamel, Director of the General Intelligence Directorate of the Arab Republic of Egypt | Non-acceptance would cause embarrassment to donor and U.S. Government.
The Honorable Wendy Sherman, Deputy Secretary of State | Four Olympics Face Masks and Nine Fans. Rec'd—8/9/2021. Est. Value—$443.00. Disposition—Pending transfer to GSA. | His Excellency Takeo Akiba, National Security Advisor of Japan | Non-acceptance would cause embarrassment to donor and U.S. Government.
The Honorable Richard Norland, U.S. Ambassador to the State of Libya | Crystal-inlaid Horse Head Statue and Gucci Wool Scarf. Rec'd—8/11/2021. Est. Value—$970.00. Disposition—Pending transfer to GSA. | General Khalifa Haftar, Libyan National Army | Non-acceptance would cause embarrassment to donor and U.S. Government.
The Honorable Victoria Nuland, Under Secretary of State for Political Affairs | Silver Dagger in Leather Display Case. Rec'd—8/28/2021. Est. Value—$580.00. Disposition—Pending transfer to GSA. | His Excellency Mohamed Bazoum, President of the Republic of Niger | Non-acceptance would cause embarrassment to donor and U.S. Government.
The Honorable Victoria Nuland, Under Secretary of State for Political Affairs | Turquoise and Silver Jewelry Set including Two Pairs of Earrings, Necklace, and Bracelet, in Leather Box. Rec'd—8/28/2021. Est. Value—$620.00. Disposition—Pending transfer to GSA. | His Excellency Hassoumi Massoudou, Minister of Foreign Affairs of the Republic of Niger | Non-acceptance would cause embarrassment to donor and U.S. Government.
Mr. David Greene, Chargé d'Affaires ad interim, U.S. Embassy Rabat | Box of Maroc Maroc Cosmetics and Mont Blanc Blue Leather Alligator Fountain Pen. Rec'd—11/16/2021. Est. Value—$4,540.00 Disposition—Pending transfer to GSA. | Mr. Mohamed Mounir El Majidi, Particular Secretary of His Majesty the King, Morocco | Non-acceptance would cause embarrassment to donor and U.S. Government.
Department of State Employee ⁴ | DuPont Ballpoint Pen. Rec'd—2021. Est. Value $975.00. Disposition—Transferred to GSA. | Foreign Government Official | Non-acceptance would cause embarrassment to donor and U.S. Government.
Department of State Employee ⁵ | Brass and Wood Box with Al Jazeera Perfume. Rec'd—2021. Est. Value—$600.00. Disposition—Transferred to GSA. | Foreign Government Official | Non-acceptance would cause embarrassment to donor and U.S. Government.
Department of State Employee ⁶ | Men's Jewelry Set in Wood Box with Two Wristwatches, Two Pens, Cufflinks, and Keychain. Rec'd—2021. Est. Value—$1,760.00. Disposition—Transferred to GSA. | Foreign Government Official | Non-acceptance would cause embarrassment to donor and U.S. Government.
Department of State Employee ⁷ | Men's Jewelry Set in Wood Box with Two Wristwatches, Two Pens, Cufflinks, and Keychain. Rec'd—2021. Est. Value—$6,230.00. Disposition—Transferred to GSA. | Foreign Government Official | Non-acceptance would cause embarrassment to donor and U.S. Government.
Department of State Employee ⁸ | Men's Jewelry Set in Wood Box with Two Wristwatches, Two Pens, Cufflinks, and Keychain. Rec'd—2021. Est. Value—$1,080.00. Disposition—Transferred to GSA. | Foreign Government Official | Non-acceptance would cause embarrassment to donor and U.S. Government.
Department of State Employee ⁹ | Infinity Necklace by Martini Herrera. Rec'd—2021. Est. Value—$1,200.00. Disposition—Transferred to GSA. | Foreign Government Official | Non-acceptance would cause embarrassment to donor and U.S. Government.
Department of State Employee ¹⁰ | Wristwatch by Markato. Rec'd—2021. Est. Value—$1,175.00. Disposition—Transferred to GSA. | Foreign Government Official | Non-acceptance would cause embarrassment to donor and U.S. Government.
Department of State Employee ¹¹ | DuPont Ballpoint Pen. Rec'd—Unknown. Est. Value $630.00. Disposition—Transferred to GSA. | Foreign Government Official | Non-acceptance would cause embarrassment to donor and U.S. Government.
Department of State Employee ¹² | DuPont Ballpoint Pen. Rec'd—Unknown. Est. Value $435.00. Disposition—Transferred to GSA. | Foreign Government Official | Non-acceptance would cause embarrassment to donor and U.S. Government.
Department of State Employee ¹³ | White Gold Heart-shaped Ring. Rec'd—Unknown. Est. Value—$950.00. Disposition—Transferred to GSA. | Foreign Government Official | Non-acceptance would cause embarrassment to donor and U.S. Government.
Department of State Employee ¹⁴ | Versace Leather Clutch. Rec'd—Unknown. Est. Value—$1,360.00. Disposition—Transferred to GSA. | Foreign Government Official | Non-acceptance would cause embarrassment to donor and U.S. Government.
Department of State Employee ¹⁵ | Cartier Rollerball Pen and Roja Perfume. Rec'd—Unknown. Est. Value—$1,459.00. Disposition—Transferred to GSA. | Foreign Government Official | Non-acceptance would cause embarrassment to donor and U.S. Government.
Department of State Employee ¹⁶ | Francesco Smalto Fur Coat. Rec'd—Unknown. Est. Value—$950.00. Disposition—Transferred to GSA. | Government of the Kingdom of Saudi Arabia | Non-acceptance would cause embarrassment to donor and U.S. Government.
¹ Item was received by the Office of the Chief of Protocol via Diplomatic Pouch from Embassy Astana in 2022.
² Item was received by the Office of the Chief of Protocol via Diplomatic Pouch from Embassy Baghdad in 2021.
³ Item was received by the Office of the Chief of Protocol via Diplomatic Pouch in 2021.
⁴ Item was received by the Office of the Chief of Protocol via Diplomatic Pouch in accordance with Department processes for handling gifts from a foreign government but with incomplete information on donor or recipient.
⁵ Item was received by the Office of the Chief of Protocol via Diplomatic Pouch in accordance with Department processes for handling gifts from a foreign government but with incomplete information on donor or recipient.
⁶ Item was received by the Office of the Chief of Protocol via Diplomatic Pouch in accordance with Department processes for handling gifts from a foreign government but with incomplete information on donor or recipient.
⁷ Item was received by the Office of the Chief of Protocol via Diplomatic Pouch in accordance with Department processes for handling gifts from a foreign government but with incomplete information on donor or recipient.
⁸ Item was received by the Office of the Chief of Protocol via Diplomatic Pouch in accordance with Department processes for handling gifts from a foreign government but with incomplete information on donor or recipient.
⁹ Item was received by the Office of the Chief of Protocol via Diplomatic Pouch in accordance with Department processes for handling gifts from a foreign government but with incomplete information on donor or recipient.
¹⁰ Item was received by the Office of the Chief of Protocol via Diplomatic Pouch in accordance with Department processes for handling gifts from a foreign government but with incomplete information on donor or recipient.
¹¹ Item was received by the Office of the Chief of Protocol via Diplomatic Pouch in accordance with Department processes for handling gifts from a foreign government but with incomplete information on donor or recipient.
¹² Item was received by the Office of the Chief of Protocol via Diplomatic Pouch in accordance with Department processes for handling gifts from a foreign government but with incomplete information on donor or recipient.
¹³ Item was received by the Office of the Chief of Protocol via Diplomatic Pouch in accordance with Department processes for handling gifts from a foreign government but with incomplete information on donor or recipient.
¹⁴ Item was received by the Office of the Chief of Protocol via Diplomatic Pouch in accordance with Department processes for handling gifts from a foreign government but with incomplete information on donor or recipient.
¹⁵ Item was received by the Office of the Chief of Protocol via Diplomatic Pouch in accordance with Department processes for handling gifts from a foreign government but with incomplete information on donor or recipient.
¹⁶ Item was received by the Office of the Chief of Protocol via Diplomatic Pouch from Embassy Riadyh in 2022 in accordance with Department processes for handling gifts from a foreign government but with incomplete information on donor or recipient.

Agency: Central Intelligence Agency
[Report of Tangible Gifts and Gifts of Travel Furnished by the Central Intelligence Agency]
Name and title of person accepting the gift on behalf of the U.S. Government | Gift, date of acceptance on behalf of the U.S. Government, estimated value, and current disposition or location | Identity of foreign donor and government | Circumstances justifying acceptance
The Honorable William Burns, Director of the Central Intelligence Agency | 18-karat Gold and Enamel Necklace. Rec'd—6/21/2021. Est. Value—$1,200.00. Disposition—Transferred to GSA. | 5 U.S.C. 7342(f)4) | Non-acceptance would cause embarrassment to donor and U.S. Government.
The Honorable William Burns, Director of the Central Intelligence Agency | Frosted Crystal and Silver Eagle, Numbered 06/50, on Black Stand. Rec'd—7/20/2021. Est. Value—$2,500.00. Disposition—Item destroyed. | 5 U.S.C. 7342(f)(4) | Non-acceptance would cause embarrassment to donor and U.S. Government.
The Honorable William Burns, Director of the Central Intelligence Agency | Cufflinks with Gold Stripes. Rec'd—7/21/2021. Est. Value—$500.00. Disposition—Transferred to GSA. | 5 U.S.C. 7342(f)(4) | Non-acceptance would cause embarrassment to donor and U.S. Government.
The Honorable William Burns, Director of the Central Intelligence Agency | Modern 6′ x 4′ Silk Rug and Vase. Rec'd—7/28/2021. Est. Value—$550.00. Disposition—Transferred to GSA. | 5 U.S.C. 7342(f)(4) | Non-acceptance would cause embarrassment to donor and U.S. Government.
The Honorable William Burns, Director of the Central Intelligence Agency | Pair of Filigree Silver Tapered Candlesticks. Rec'd—8/1/2021. Est. Value—$500.00. Disposition—Transferred to GSA. | 5 U.S.C. 7342(f)(4) | Non-acceptance would cause embarrassment to donor and U.S. Government.
The Honorable William Burns, Director of the Central Intelligence Agency | Reticulated Silver Centerpiece with a Pair of Candlesticks. Rec'd—8/1/2021. Est. Value—$600.00. Disposition—Transferred to GSA. | 5 U.S.C. 7342(f)(4) | Non-acceptance would cause embarrassment to donor and U.S. Government.
An Agency Employee | Ladies Watch. Rec'd—6/10/2019. Est. Value—$500.00. Disposition—Pending purchase from GSA. | 5 U.S.C. 7342(f)(4) | Non-acceptance would cause embarrassment to donor and U.S. Government.
An Agency Employee | Silk Carpet. Rec'd—7/6/2020. Est. Value—$533.00. Disposition—On official display. | 5 U.S.C. 7342(f)(4) | Non-acceptance would cause embarrassment to donor and U.S. Government.
An Agency Employee | Men's Watch. Rec'd—8/13/2020. Est. Value—$2,000.00. Disposition—Item destroyed. | 5 U.S.C. 7342(f)(4) | Non-acceptance would cause embarrassment to donor and U.S. Government.
An Agency Employee | Box Set of Fragrance. Rec'd—8/13/2020. Est. Value—$680.00. Disposition—Item destroyed. | 5 U.S.C. 7342(f)(4) | Non-acceptance would cause embarrassment to donor and U.S. Government.
An Agency Employee | Five Mont Blanc Document Slim Cases. Rec'd—12/29/2020. Est. Value—$3,925.00. Disposition—Transferred to GSA. | 5 U.S.C. 7342(f)(4) | Non-acceptance would cause embarrassment to donor and U.S. Government.
An Agency Employee | Mont Blanc Document Slim Case. Rec'd—12/31/2020. Est. Value—$785.00. Disposition—Official use. | 5 U.S.C. 7342(f)(4) | Non-acceptance would cause embarrassment to donor and U.S. Government.
An Agency Employee | Mont Blanc Document Slim Case. Rec'd—1/3/2021. Est. Value—$785.00. Disposition—Official use. | 5 U.S.C. 7342(f)(4) | Non-acceptance would cause embarrassment to donor and U.S. Government.
An Agency Employee | Scarf. Rec'd—1/4/2021. Est. Value—$1,600.00. Disposition—Item destroyed. | 5 U.S.C. 7342(f)(4) | Non-acceptance would cause embarrassment to donor and U.S. Government.
An Agency Employee | Mont Blanc Nightflight Document Slim Case. Rec'd—1/4/2021. Est. Value—$785.00. Disposition—Official use. | 5 U.S.C. 7342(f)(4) | Non-acceptance would cause embarrassment to donor and U.S. Government.
An Agency Employee | Mont Blanc Pen. Rec'd—1/4/2021. Est. Value—$450.00. Disposition—Official use. | 5 U.S.C. 7342(f)(4) | Non-acceptance would cause embarrassment to donor and U.S. Government.
An Agency Employee | Set of Virginia Woolf Pens. Rec'd—1/4/2021. Est. Value—$800.00. Disposition—On official display. | 5 U.S.C. 7342(f)(4) | Non-acceptance would cause embarrassment to donor and U.S. Government.
An Agency Employee | Mont Blanc Document Slim Case. Rec'd—1/18/2021. Est. Value—$785.00. Disposition—Official use. | 5 U.S.C. 7342(f)(4) | Non-acceptance would cause embarrassment to donor and U.S. Government.
An Agency Employee | GIFT OF TRAVEL: Two Night Hotel Stay. Rec'd—2/12/2021. Est. Value—$491.00. | 5 U.S.C. 7342(f)(4) | Non-acceptance would cause embarrassment to donor and U.S. Government.
An Agency Employee | GIFT OF TRAVEL: Sponsored Outing. Rec'd—4/5/2021. Est. Value—$610.00. | 5 U.S.C. 7342(f)(4) | Non-acceptance would cause embarrassment to donor and U.S. Government.
An Agency Employee | Gold Jewelry Set. Rec'd—5/11/2021. Est. Value—$976.00. Disposition—Pending purchase from GSA. | 5 U.S.C. 7342(f)(4) | Non-acceptance would cause embarrassment to donor and U.S. Government.
An Agency Employee | Two Shirts, Cufflinks, Tie/Pocket Square. Rec'd—5/24/2021. Est. Value—$2,000.00. Disposition—Items destroyed. | 5 U.S.C. 7342(f)(4) | Non-acceptance would cause embarrassment to donor and U.S. Government.
An Agency Employee | Women's Purse. Rec'd—5/24/2021. Est. Value—$1,200.00. Disposition—Item destroyed. | 5 U.S.C. 7342(f)(4) | Non-acceptance would cause embarrassment to donor and U.S. Government.
An Agency Employee | Box of Eight High-end Davidoff Royal Release Cigars. Rec'd—5/28/2021. Est. Value—$800.00. Disposition—Official use. | 5 U.S.C. 7342(f)(4) | Non-acceptance would cause embarrassment to donor and U.S. Government.
An Agency Employee | Men's Watch. Rec'd—6/10/2021. Est. Value—$1,450.00. Disposition—Item destroyed. | 5 U.S.C. 7342(f)(4) | Non-acceptance would cause embarrassment to donor and U.S. Government.
An Agency Employee | Men's Watch. Rec'd—6/15/2021. Est. Value—$500.00. Disposition—Item destroyed. | 5 U.S.C. 7342(f)(4) | Non-acceptance would cause embarrassment to donor and U.S. Government.
An Agency Employee | Men's Watch. Rec'd—7/5/2021. Est. Value—$800.00. Disposition—Item destroyed. | 5 U.S.C. 7342(f)(4) | Non-acceptance would cause embarrassment to donor and U.S. Government.
An Agency Employee | Crystal Decanter with Glasses, Bottle of Scotch, and Pair of Cufflinks. Rec'd—7/6/2021. Est. Value—$475.00. Disposition—Items destroyed. | 5 U.S.C. 7342(f)(4) | Non-acceptance would cause embarrassment to donor and U.S. Government.
An Agency Employee | Mont Blanc Gift Set. Rec'd—7/13/2021. Est. Value—$2,500.00. Disposition—Item destroyed. | 5 U.S.C. 7342(f)(4) | Non-acceptance would cause embarrassment to donor and U.S. Government.
An Agency Employee | Men's Watch. Rec'd—8/16/2021. Est. Value—$10,000.00. Disposition—Item destroyed. | 5 U.S.C. 7342(f)(4) | Non-acceptance would cause embarrassment to donor and U.S. Government.
An Agency Employee | Box Set of Fragrance. Rec'd—9/3/2021. Est. Value—$500.00. Disposition—Item destroyed. | 5 U.S.C. 7342(f)(4) | Non-acceptance would cause embarrassment to donor and U.S. Government.
An Agency Employee | Men's Watch. Rec'd—9/3/2021. Est. Value—$3,000.00. Disposition—Item destroyed. | 5 U.S.C. 7342(f)(4) | Non-acceptance would cause embarrassment to donor and U.S. Government.
An Agency Employee | Custom Bike, Bike Travel Case, and GPS. Rec'd—9/13/2021. Est. Value—$11,594.00. Disposition—Official Use. | 5 U.S.C. 7342(f)(4) | Non-acceptance would cause embarrassment to donor and U.S. Government.
An Agency Employee | Men's Watch. Rec'd—9/27/2021. Est. Value—$590.00. Disposition—Item destroyed. | 5 U.S.C. 7342(f)(4) | Non-acceptance would cause embarrassment to donor and U.S. Government.
An Agency Employee | GIFT OF TRAVEL: EXPO Premier-level Season Passes. Rec'd—10/20/2021. Est. Value—$476.00. | 5 U.S.C. 7342(f)(4) | Non-acceptance would cause embarrassment to donor and U.S. Government.
An Agency Employee | Men's Watch. Rec'd—11/1/2021. Est. Value—$1,500.00. Disposition—Item destroyed. | 5 U.S.C. 7342(f)(4) | Non-acceptance would cause embarrassment to donor and U.S. Government.
An Agency Employee | GIFT OF TRAVEL: EXPO Premier-level Season Passes. Rec'd—11/4/2021. Est. Value—$476.00. | 5 U.S.C. 7342(f)(4) | Non-acceptance would cause embarrassment to donor and U.S. Government.
An Agency Employee | Two iPad Minis. Rec'd—11/9/2021. Est. Value—$900.00. Disposition—Item destroyed. | 5 U.S.C. 7342(f)(4) | Non-acceptance would cause embarrassment to donor and U.S. Government.
An Agency Employee | Four Bottles of Vintage Wine. Rec'd—12/3/2021. Est. Value—$1,164.00. Disposition—Official use. | 5 U.S.C. 7342(f)(4) | Non-acceptance would cause embarrassment to donor and U.S. Government.
An Agency Employee | GIFT OF TRAVEL: EXPO Premier-level Season Passes. Rec'd—12/11/2021. Est. Value—$1,244.00. | 5 U.S.C. 7342(f)(4) | Non-acceptance would cause embarrassment to donor and U.S. Government.
An Agency Employee | GIFT OF TRAVEL: EXPO Premier-level Season Passes. Rec'd—12/12/2021. Est. Value—$622.00. | 5 U.S.C. 7342(f)(4) | Non-acceptance would cause embarrassment to donor and U.S. Government.
An Agency Employee | Silk Rug. Rec'd—12/24/2021. Est. Value—$1,110.00. Disposition—On official display. | 5 U.S.C. 7342(f)(4) | Non-acceptance would cause embarrassment to donor and U.S. Government.
An Agency Employee | Basket Containing Wine & Cognac. Rec'd—12/29/2021. Est. Value—$590.00. Disposition—Official use. | 5 U.S.C. 7342(f)(4) | Non-acceptance would cause embarrassment to donor and U.S. Government.
An Agency Employee | Ladies Watch. Rec'd—12/31/2021. Est. Value—$500.00. Disposition—Item destroyed. | 5 U.S.C. 7342(f)(4) | Non-acceptance would cause embarrassment to donor and U.S. Government.
An Agency Employee | Three 18-karat Necklace and Bracelet Sets. Rec'd—12/31/2021. Est. Value—$5,750.00. Disposition—Transferred to GSA. | 5 U.S.C. 7342(f)(4) | Non-acceptance would cause embarrassment to donor and U.S. Government.

Agency: Department of Agriculture
[Report of Tangible Gifts Furnished by the Department of Agriculture]
Name and title of person accepting the gift on behalf of the U.S. Government | Gift, date of acceptance on behalf of the U.S. Government, estimated value, and current disposition or location | Identity of foreign donor and government | Circumstances justifying acceptance
The Honorable Jewel Bronaugh, Deputy Secretary of Agriculture of the United States | Book and Series of Pictures: Iconography of Italian Mammals. Rec'd—7/29/2021. Est. Value—$450.00. Disposition—On Official Display. | His Excellency Vannia Gava, Under Secretary, Ministry for Ecological Transition of the Italian Republic | Non-acceptance would cause embarrassment to donor and U.S. Government.

Agency: Department of Defense
[Report of Tangible Gifts Furnished by the Department of the Defense]
Name and title of person accepting the gift on behalf of the U.S. Government | Gift, date of acceptance on behalf of the U.S. Government, estimated value, and current disposition or location | Identity of foreign donor and government | Circumstances justifying acceptance
The Honorable Lloyd J. Austin, Secretary of Defense | Personalized rugby ball with tooled leatherwork depicting flowers and foliate arabesques on base, in presentation box. Rec'd—3/18/2021. Est. Value—$1,800.00. Disposition—Item on Official Display. | His Excellency Suh Wook, Minister of National Defense of the Republic of Korea | Non-acceptance would cause embarrassment to donor and U.S. Government.
The Honorable Lloyd J. Austin, Secretary of Defense | Silver filigree standing peacock with gemstones in presentation box. Rec'd—3/20/2021. Est. Value—$800.00. Disposition—Item on Official Display. | His Excellency Rajnath Singh, Minister of Defense of the Republic of India | Non-acceptance would cause embarrassment to donor and U.S. Government.
The Honorable Lloyd J. Austin, Secretary of Defense | Tekke Bokhara carpet. Rec'd—3/21/2021. Est. Value—$2,650.00. Pending transfer to GSA. | His Excellency Mohammed Ashraf Ghani, President of the Islamic Republic of Afghanistan | Non-acceptance would cause embarrassment to donor and U.S. Government.
The Honorable Lloyd J. Austin, Secretary of Defense | Walnut chess set and album in green leatherette presentation box. Rec'd—7/1/2021. Est. Value—$1,040.00. Disposition—Pending Transfer to GSA. | His Excellency Abdulaziz Kamilov, Minister of Foreign Affairs of the Republic of Uzbekistan | Non-acceptance would cause embarrassment to donor and U.S. Government.
The Honorable Lloyd J. Austin, Secretary of Defense | Vase in presentation box and certificate in brown leatherette album. Rec'd—7/29/2021. Est. Value—$600.00. Disposition—Item on Official Display. | His Excellency Pham Minh Chinh, Prime Minister of the Socialist Republic of Vietnam | Non-acceptance would cause embarrassment to donor and U.S. Government.
The Honorable Lloyd J. Austin, Secretary of Defense | Brass medallion stating “Department of National Defense/Republic of the Philippines” in presentation box and “Bayanihan” model of one-room house with grass roof, being carried by 12 men in presentation box. Rec'd—7/30/2021. Est. Value—$445.00. Disposition—Item on Official Display, SecDef Office, Pentagon. | His Excellency Delfin Lorenzana, Secretary of National Defense of the Republic of the Philippines | Non-acceptance would cause embarrassment to donor and U.S. Government.
The Honorable Lloyd J. Austin, Secretary of Defense | Sabre with curved steel blade. Rec'd—8/14/2021. Est. Value—$8,100.00. Disposition—Item on Official Display, SecDef Office, Pentagon. | His Excellency Khalid Al-Attiyah, Minister of Defense of the State of Qatar | Non-acceptance would cause embarrassment to donor and U.S. Government.
The Honorable Lloyd J. Austin, Secretary of Defense | Wooden ship model mounted on wood platform tagged from Al-Sabah to Austin and wooden chest. Rec'd—9/8/2021. Est. Value—$1,360.00. Disposition—Item on Official Display. | His Highness Sheikh Jaber Mubarak Al-Hamad Al-Sabah, Deputy Minister of Defense, State of Kuwait | Non-acceptance would cause embarrassment to donor and U.S. Government.
General Mark A. Milley, Chairman of the Joint Chiefs of Staff | Bottle of “Veloba Cesanese Terenzi” red wine, Ballpoint pen by Marlen Pens of Italy, with NATO symbol and marked “MCC 2020 ROMA”, in presentation box with silver tag inside lid stating country names of NATO members plus year date that each jointed NATO, Pewter medallion stating “NATO/Rome/18-19 IX 2020 Military Committee Conference” and reverse stating “The Chief of the Italian Defense General Staff”, Blue notebook plus blue ballpoint pen together in presentation box, Paperback book: Women, Peace and Security: UN Resolution 1325 and the Experience of the Italian Armed Forces, Paperback book: The History of Rome, by Michael Grant; Silk necktie, silk, by Ulturale of Naples, Rec'd—12/11/2020. Est. Value—$890.00. Disposition—JCS Gift Locker and Pending Transfer to GSA. | Air Squadron General Enzo Vecciarelli, Italian Defense Chief of Staff | Non-acceptance would cause embarrassment to donor and U.S. Government.
General Mark A. Milley, Chairman of the Joint Chiefs of Staff | Bottle of Midleton Very Rose Barry Crockett Single Pot Still Irish Whiskey and “Dual use censor” by Sahar Bizri Designs in presentation box. Rec'd—7/23/2021. Est. Value—$565.00. Disposition—JCS Gift Locker and Pending Transfer to GSA. | His Majesty King Abdullah II ibn Al Hussein, King of the Hashemite Kingdom of Jordan | Non-acceptance would cause embarrassment to donor and U.S. Government.
General Mark A. Milley, Chairman of the Joint Chiefs of Staff | Wool rug, Pashmina wool scarf, and Brass vase. Rec'd—7/30/2021. Est. Value—$715.00. Disposition—JCS Gift Locker and Pending Transfer to GSA. | Lt. General Faiz Hamid, Director-General, Inter-Services Intelligence, Pakistan | Non-acceptance would cause embarrassment to donor and U.S. Government.
General Mark A. Milley, Chairman of the Joint Chiefs of Staff | Statue; Brooch; Shawl; Silk Necktie by Satya Paul; Hand-painted box; Box of “Tea Luxe” tea in 30 bags; Box containing of “Fabindia” jasmine face wash, face mask, and day cream; Table linen set by Tabeer, consisting of 6 placemats, 6 napkins, and table runner. Rec'd—9/30/2021. Est. Value—$470.00. Disposition: Item transferred to GSA by WHS. | General Bipin Rawat, Chief of Defense Staff of the Indian Armed Forces | Non-acceptance would cause embarrassment to donor and U.S. Government.
General Mark A. Milley, Chairman of the Joint Chiefs of Staff | Assemblage of military pins along with plaque “Great and Good Friends“, over presentation tag to Milley from Srisawasdi, Gold tone plaque depicting military emblem with presentation tag to Milley, Green and beige table linen set with silver tone napkin ring with purple enameled orchid, and Hardcover book: Thailand from the Air. Rec'd—12/14/2021. Est. Value—$695.00. Disposition—JCS Gift Locker and Pending Transfer. | General Chalerphon Srisawasdi, Chief of Defense, Kingdom of Thailand | Non-acceptance would cause embarrassment to donor and U.S. Government.
Admiral Lowell Jacoby, USN, Director of the Defense Intelligence Agency | Statue depicting 2 gold plated chimpanzees on rectangular base. Rec'd—6/27/2005.¹⁷ Est. Value—$585.00. Disposition: In WHS Gift Locker and Pending Transfer to GSA. | Government of Taiwan | Non-acceptance would cause embarrassment to donor and U.S. Government.
Ms. Kathryn Wheelbarger, Assistant Secretary of Defense for International Security Affairs | Gold pendant necklace of Nephertite head, Pen stand marked with “Air Defense Forces” beneath Egyptian Defense emblem and miniature sphinx, Black leather purse/clutch with 2 panel images of seated pharaoh holding scepter. Rec'd—12/10/2019. Est. Value—$740.00. Disposition—Items transferred to GSA by WHS. | Lt. General Aly Fahmy, Commander of the Egyptian Air Defense | Non-acceptance would cause embarrassment to donor and U.S. Government.
Mr. Jacques Grimes, Director of Commonwealth and Partner Engagement, USD(I&S) | Brass medallion, stating “Saudi Armed Forces” over image of 4 military craft, accompanied by brass stand in presentation box and Black leather attaché case, with embossed Saudi Emblem, in presentation box. Rec'd—2/23/2020. Est. Value—$429.00. Disposition—Item transferred to GSA by WHS. | Major General Dahmer, DMI/MOD 72, Kingdom of Saudi Arabia | Non-acceptance would cause embarrassment to donor and U.S. Government.
Mr. Jacques Grimes, Director of Commonwealth and Partner Engagement, USD(I&S) | Aigner presentation set with black leather wallet and rollerball pen. Rec'd—3/1/2020. Est. Value—$600.00. Disposition—Item transferred to GSA by WHS. | Brigadier General Abdullah Hamoudi, United Arab Emirates | Non-acceptance would cause embarrassment to donor and U.S. Government.
Admiral (ret.) Kenneth J. Braithwaite, Secretary of the Navy | Sabre with one side near hilt incised Arabic calligraphy within cartouche accompanied by scabbard clad in black leather with Bahraini shield emblem in bespoke presentation/carrying case tagged from “Commander-in-Chief Bahrain Defense Forces.” Rec'd—12/17/2020. Est. Value—$2,400.00. Disposition—Donated to the National Navy Museum. | His Excellency Khalifa bin Ahmed Al Khalifa, Commander-in-Chief of Defense Forces, Kingdom of Bahrain | Non-acceptance would cause embarrassment to donor and U.S. Government.
Ms. Heidi Grant, Director of the Defense Security Cooperation Agency | Glossy black leather Chanel clutch, by Chanel and Silver-plated candelabrum, by Queen Anne of England. Rec'd—6/9/2021. Est Value—$2,345.00. Disposition—In WHS Gift Locker and Pending Transfer to GSA. | Ms. Yasmeen Zaman, President, BAFWWA, Bangladesh | Non-acceptance would cause embarrassment to donor and U.S. Government.
General Daniel R. Hokanson, Chief, National Guard Bureau | Sculpture made of rocket shells fired at Israel depicting 2 hands clasped over a gun butt into shrapnel, mounted on wood slab with presentation tag to Hokanson from Gordin. Rec'd—7/1/2021. Est. Value—$430.00. Disposition—Item on Official Display, National Guard Bureau Chief's Office, Pentagon. | Major General Ori Gordin, Commanding General, Israeli Home Front Command | Non-acceptance would cause embarrassment to donor and U.S. Government.
Admiral (ret.) Kenneth J. Braithwaite, Secretary of the Navy | Sword with grooved steel blade in presentation case tagged to Braithwaite from Nicolae-Ionel Circa, dated November 11, 2020. Rec'd—11/11/2021. Est. Value—$490.00. Disposition—Donated to the National Navy Museum. | His Excellency Nicolae-Ionel Ciuca, Minister of Defense of Romania | Non-acceptance would cause embarrassment to donor and U.S. Government.
Mr. Ronald S. Moultrie, Under Secretary of Defense for Intelligence & Security | Tear-drop shaped flat stone club made of New Zealand “greenstone” jade, accompanied by rectangular wood stand with presentation tag from New Zealand Defense Intelligence. Rec'd—11/22/2021. Est Value—$760.00. Disposition—Item on Official Display in the Pentagon, ANZUS Corridor. | Air Commodore Tim Walshe, Chief of Defense Intelligence, New Zealand Defense Force | Non-acceptance would cause embarrassment to donor and U.S. Government.
¹⁷ Statue was on display in the Defense Intelligence Agency Director's Office since 2005 and subsequently turned in for processing in 2021.

Agency: Department of the Air Force
[Report of Tangible Gifts Furnished by the Department of Air Force]
Name and title of person accepting the gift on behalf of the U.S. Government | Gift, date of acceptance on behalf of the U.S. Government, estimated value, and current disposition or location | Identity of foreign donor and government | Circumstances justifying acceptance
Brigadier General Duke Pirak, DJ5 United States Central Command | Watch Jaguar Silver. Rec'd—3/31/2021. Est. Value—$699.00. Disposition—On Official Display | Colonel Ahman Jedeen Monsoori, Qatari Air Force | Non-acceptance would cause embarrassment to donor and U.S. Government.

Agency: Department of Army
[Report of Tangible Gifts Furnished by the Department of Army]
Name and title of person accepting the gift on behalf of the U.S. Government | Gift, date of acceptance on behalf of the U.S. Government, estimated value, and current disposition or location | Identity of foreign donor and government | Circumstances justifying acceptance
Mr. Condel Foster, U.S. Army, Property Book Officer, 3d Special Forces Group, Fort Bragg | One (1) Cannon. Rec'd—2001. Est. Value—$3,199.95. Disposition—Official Use (Display) | Foreign Government Official | Non-acceptance would cause embarrassment to donor and U.S. Government.
Chief Warrant Officer 2 Gustavo Salvador, U.S. Army, Property Book Officer, 7th Special Forces Group, 1st Special Forces Command (Airborne), Camp Bull Simons, Eglin AFB | One (1) Cannon. Rec'd—2001. Est. Value—$3,199.95. Disposition—Official Use (Display) | Foreign Government Official | Non-acceptance would cause embarrassment to donor and U.S. Government.
Brigadier General Joshua Rudd, Commander, Special Operations Command Pacific (SOCPAC), Camp Smith | Thompson Sub-Machine Gun and ISIS Flag. Rec'd—11/13/2020. Est. Value—$3,410.00. Disposition—Official Use (Display) | Major General Juvymax Uy, Commander, Joint Task Force—Central, Western Mindanao Command, epublic of the Philippines | Non-acceptance would cause embarrassment to donor and U.S. Government.
Staff Sergeant Christopher L. Geving, U.S. Army, Team Leader, 62nd Ordinance Company (EOD) | Three AK-47 rifles one PKM rifle one PPsh-41 rifle. Rec'd—2/20/2020. Est. Value—$2,230.00. Disposition—Official Use (Display) | Mr. Ahmad Shekid Sultani, Afghan National Army Director of Regional Targeting Team—North, Government of the Islamic Republic of Afghanistan, the Afghan National Special Operations Command, and the National Mine Reduction Group | Non-acceptance would cause embarrassment to donor and U.S. Government.
Special Operations Detachment—Alpha (SFOD-A) 0324, B Company, 3rd Battalion, 10th Special Forces Group | Two RPKs, one machine gun, two Lee-Enfields, one Springfield, and four AK-47 rifles. Rec'd—5/1/2020. Est. Value—$2,417.00. Disposition—Official Use (Display) | Major Mohammed Sarbland, 3rd Special Operations Kandak (SOK), on behalf of the Government of the Islamic Republic of Afghanistan | Non-acceptance would cause embarrassment to donor and U.S. Government.
Lieutenant General Robert P. White, Commander, Combined Joint Task Force—Operation Inherent Resolve and III Corps | Demilitarized gold-plated AK-47. Rec'd—9/9/2020. Est. Value—$1,200.00. Disposition—Official Use (Display) | General Abdul Wahab al Saadi, Commander of the Counter Terrorism Service, Republic of Iraq | Non-acceptance would cause embarrassment to donor and U.S. Government.
Lieutenant General Paul T. Calvert, Commander, Combined Joint Task Force—Operation Inherent Resolve | Montblanc pen and notebook. Rec'd—5/17/2021. Est. Value—$515.00. Disposition—Official Use (Display) | His Excellency Mustafa Al-Kadhimi, Prime Minister of the Republic of Iraq | Non-acceptance would cause embarrassment to donor and U.S. Government.
Mr. Hong Seen Lai, U.S. Army, Property Book Officer, 10th Special Forces Group (Airborne), Fort Carson, 80913 | One (1) RPD demilitarized firearm and one (1) RPK demilitarized firearm. Rec'd—5/15/2021. Est. Value—$451.20. Disposition—Official Use (Display) | Foreign Government Official | Non-acceptance would cause embarrassment to donor and U.S. Government.
Captain Thomas L. Redmond, Commander, Alpha Battery 4th Battalion 3rd Security Forces Assistance Brigade | Roamer Mechaline Pro Swiss watch. Rec'd—9/30/2021. Est. Value—$651.36. Disposition—Official Use (Display) | Major General Khalifa Bin Hassan Al Khalifa, Commandant of the Royal Artillery, Bahrain Royal Defense Forces | Non-acceptance would cause embarrassment to donor and U.S. Government.

Agency: Department of the Treasury
[Report of Tangible Gifts Furnished by the Department of the Treasury]
Name and title of person accepting the gift on behalf of the U.S. Government | Gift, date of acceptance on behalf of the U.S. Government, estimated value, and current disposition or location | Identity of foreign donor and government | Circumstances justifying acceptance
The Honorable Steven T. Mnuchin, Secretary of the United States Treasury | Bust of King Tutankhamun, Coin Set, and Book: The Oriental Album: Characters, costumes, and modes of life, in the valley of the Nile. Rec'd—1/5/2021. Est. Value—$844.52. Disposition—Pending transfer to GSA. | His Excellency Mohamed Maitt, Minister of Finance of the Arab Republic of Egypt | Non-acceptance would cause embarrassment to donor and U.S. Government.
The Honorable Steven T. Mnuchin, Secretary of the United States Treasury | AlUla Books (AlUla—Wonder of Arabia and AlUla Blue Coffee Table Book—Assoulini), Scented Candle, and Bottle of Argan Oil. Rec'd—1/10/2021. Est. Value—$969.24 Disposition—Pending transfer to GSA. | His Excellency Mohammed Al-Jadaan, Minister of Finance of the Kingdom of Saudi Arabia | Non-acceptance would cause embarrassment to donor and U.S. Government.
The Honorable Justin Muzinich, Deputy Secretary of the United States Treasury | Al Jazeera Perfumes in White Lacquer and Gold State of Qatar Chest with Wristwatch, 7 Bottles of Al Jazeera Perfumes, and Incense/Oil Diffuser. Rec'd—1/18/2021. Est. Value—$713.73. Disposition—Pending transfer to GSA. | Head of Al Marri Tribe, State of Qatar | Non-acceptance would cause embarrassment to donor and U.S. Government.
Mr. Paul Khuri, Financial Attaché, United States Treasury | Montegrappa Stainless Steel Watch with Silver Dial. Rec'd—1/25/2021. Est. Value—$750.00. Disposition—Pending transfer to GSA. | Mr. Faisal al Shamsi, Liaison Officer, Dubai Secret Service | Non-acceptance would cause embarrassment to donor and U.S. Government.
Mr. Paul Khuri, Financial Attaché, United States Treasury | Montblanc Nightflight Slim Document Case and Box of Bateel Dates. Rec'd—1/27/2021. Est. Value—$454.99. Disposition—Pending transfer to GSA. Perishable items disposed of. | Mr. Faisal al Shamsi, Liaison Officer, Dubai Secret Service | Non-acceptance would cause embarrassment to donor and U.S. Government.

Agency: U.S. Agency for International Development
[Report of Tangible Gifts Furnished by the U.S. Agency for International Development]
Name and title of person accepting the gift on behalf of the U.S. Government | Gift, date of acceptance on behalf of the U.S. Government, estimated value, and current disposition or location | Identity of foreign donor and government | Circumstances justifying acceptance
Mr. Peter Riley, Mission Director, USAID/Tajikistan | Framed Tajik Suezani. Rec'd—11/17/2021. Est. Value—$500. Disposition—On Official Display. | Minister of Education, Ministry of Education and Science of the Republic of Tajikistan | Non-acceptance would cause embarrassment to donor and U.S. Government.

Agency: U.S. International Development Finance Corporation
[Report of Tangible Gifts Furnished by the U.S. International Development Finance Corporation]
Name and title of person accepting the gift on behalf of the U.S. Government | Gift, date of acceptance on behalf of the U.S. Government, estimated value, and current disposition or location | Identity of foreign donor and government | Circumstances justifying acceptance
The Honorable Adam Boehler, Chief Executive Officer of the U.S. International Development Finance Corporation | Lacquer Box, Three Gucci Purses, and a 4-foot by 6-foot Rug. Rec'd—1/9/2021. Est. Value—$4,985.00. Disposition—Lacquer Box and Purses purchased by recipient from GSA. Rug in agency storage. | His Excellency Sardor Umurzakov, Deputy Prime Minister of the Republic of Uzbekistan | Non-acceptance would cause embarrassment to donor and U.S. Government.

Agency: U.S. House of Representatives
[Report of Gifts of Travel Furnished by the U.S. House of Representatives]
Name and title of person accepting the gift on behalf of the U.S. Government | Gift, date of acceptance on behalf of the U.S. Government, estimated value, and current disposition or location | Identity of foreign donor and government | Circumstances justifying acceptance
The Honorable Seth Moulton, U.S. House of Representatives | GIFT OF TRAVEL: Travel from UAE to HKIA Afghanistan on UAE Military Air, Hotel, and Meal at Premier Inn Abu Dhabi Airport. Rec'd—8/24/2021—8/25/2021. | His Excellency Yousef Al Otaiba, Ambassador of the United Arab Emirates to the United States | Non-acceptance would cause embarrassment to donor and U.S. Government.
The Honorable Peter Meijer, U.S. House of Representatives | GIFT OF TRAVEL: Travel from UAE to HKIA Afghanistan on UAE Military Air, Hotel, and Meal at Premier Inn Abu Dhabi Airport. Rec'd—8/24/2021—8/25/2021. | His Excellency Yousef Al Otaiba, Ambassador of the United Arab Emirates to the United States | Non-acceptance would cause embarrassment to donor and U.S. Government.
The Honorable James McGovern, U.S. House of Representatives | GIFT OF TRAVEL: Transportation by Car from Bogota to San Juan Sumapaz and meal. Rec'd—10/6/2021. | Her Excellency Claudia López Hernández, Mayor of Bogota and His Excellency Vladimir Rodriquez, High Commissioner for Peace for the Mayor of Bogota, Republic of Colombia | Non-acceptance would cause embarrassment to donor and U.S. Government.
The Honorable James McGovern, U.S. House of Representatives | GIFT OF TRAVEL: Lunch. Rec'd—10/7/2021. | His Excellency Ivan Cepeda, Senator, Republic of Colombia | Non-acceptance would cause embarrassment to donor and U.S. Government.
Ms. Cindy Buhl, Legislative Director, Office of The Honorable James McGovern, U.S. House of Representatives | GIFT OF TRAVEL: Transportation by Car from Bogota to San Juan Sumapaz and meal. Rec'd—10/6/2021. | Her Excellency Claudia López Hernández, Mayor of Bogota and His Excellency Vladimir Rodriquez, High Commissioner for Peace for the Mayor of Bogota, Republic of Colombia | Non-acceptance would cause embarrassment to donor and U.S. Government.
Ms. Cindy Buhl, Legislative Director, Office of The Honorable James McGovern, U.S. House of Representatives | GIFT OF TRAVEL: Lunch. Rec'd—10/7/2021. | His Excellency Ivan Cepeda, Senator, Republic of Colombia | Non-acceptance would cause embarrassment to donor and U.S. Government.
Mr. Matthew Bonacorsi, Communications Director, Office of The Honorable James McGovern, U.S. House of Representatives | GIFT OF TRAVEL: Transportation by Car from Bogota to San Juan Sumapaz and meal. Rec'd—10/6/2021. | Her Excellency Claudia López Hernández, Mayor of Bogota and His Excellency Vladimir Rodriquez, High Commissioner for Peace for the Mayor of Bogota, Republic of Colombia | Non-acceptance would cause embarrassment to donor and U.S. Government.
Mr. Matthew Bonacorsi, Communications Director, Office of The Honorable James McGovern, U.S. House of Representatives | GIFT OF TRAVEL: Lunch. Rec'd—10/7/2021. | His Excellency Ivan Cepeda, Senator, Republic of Colombia | Non-acceptance would cause embarrassment to donor and U.S. Government.
Ms. Kimberly Stanton, Senior Professional Staff, House Foreign Affairs Committee, U.S. House of Representatives | GIFT OF TRAVEL: Transportation by Car from Bogota to San Juan Sumapaz and meal. Rec'd—10/6/2021. | Her Excellency Claudia López Hernández, Mayor of Bogota and His Excellency Vladimir Rodriquez, High Commissioner for Peace for the Mayor of Bogota, Republic of Colombia | Non-acceptance would cause embarrassment to donor and U.S. Government.
Ms. Kimberly Stanton, Senior Professional Staff, House Foreign Affairs Committee, U.S. House of Representatives | GIFT OF TRAVEL: Lunch. Rec'd—10/7/2021. | His Excellency Ivan Cepeda, Senator, Republic of Colombia | Non-acceptance would cause embarrassment to donor and U.S. Government.

Agency: U.S. Senate
[Report of Tangible Gifts Furnished by the U.S. Senate]
Name and title of person accepting the gift on behalf of the U.S. Government | Gift, date of acceptance on behalf of the U.S. Government, estimated value, and current disposition or location | Identity of foreign donor and government | Circumstances justifying acceptance
The Honorable Charles E. Schumer, United States Senator | Replica of Mesopotamian Monuments. Rec'd—7/28/2021. Est. Value—$650.00. Disposition—Secretary of the Senate. | His Excellency Mustafa Al-Kahimi, Prime Minister of the Republic of Iraq | Non-acceptance would cause embarrassment to donor and U.S. Government.
The Honorable Charles E. Schumer, United States Senator | Lapis Lazuli Bowl. Rec'd—8/13/2021. Est. Value—$500.00. Disposition—Secretary of the Senate. | His Excellency Mohamed Ashraf Ghani, President of the Islamic Republic of Afghanistan | Non-acceptance would cause embarrassment to donor and U.S. Government.
The Honorable Mitch McConnell, United States Senator | Replica of Mesopotamian Monuments. Rec'd—7/28/2021. Est. Value—$650.00. Disposition—Secretary of the Senate. | His Excellency Mustafa Al-Kahimi, Prime Minister of the Republic of Iraq | Non-acceptance would cause embarrassment to donor and U.S. Government.
The Honorable Mitch McConnell, United States Senator | Lapis Lazuli Bowl. Rec'd—8/13/2021. Est. Value—$500.00. Disposition—Secretary of the Senate. | His Excellency Mohamed Ashraf Ghani, President of the Islamic Republic of Afghanistan | Non-acceptance would cause embarrassment to donor and U.S. Government.

[FR Doc. 2023-03806 Filed 2-23-23; 8:45 am]

BILLING CODE 4710-20-P